DEPARTMENT OF DEFENSE

Department of the Army

[Docket ID: USA-2021-HQ-0010]

Proposed Collection; Comment Request

AGENCY: The Department of the Army, Department of Defense (DoD).

ACTION: Information collection notice.

SUMMARY: In compliance with the Paperwork Reduction Act of 1995, the U.S. Army Combat Readiness Center announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 13, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Army Combat Readiness Center, 4905 Ruf Ave., Ft. Rucker, AL 36362, ATTN: Mr. John Nelson, or call 334-255-9479.

SUPPLEMENTARY INFORMATION: Title; Associated Form; and OMB Number: Army Safety Management Information System (ASMIS); OMB Control Number 0702-ASMS.

Needs and Uses: The ASMIS system of record is the Army's single, centralized repository for Safety and Occupational Health (SOH) data. Information collected via the three applications within ASMIS is necessary to support the requirements of the Army Safety and Occupational Health program as directed via the AR 385-40 and as prescribed in DA PAM 385-10. The information collected is used for the sole purpose of preventing accidental loss and maximizing readiness within the U.S. Army. Users provide data via one of three applications: (1) Mishap and near miss reporting, (2) safety audits and inspections, and (3) hazard management. Each provides a modern web-based, intuitive means of entering data. Users are primarily Safety Officers with orders in writing to fulfil those duties. Most of these individuals are military and DoD civilian personnel, but contractor personnel may also submit reports in ASMIS as part of their duties.

Affected Public: Individuals and households.

Annual Burden Hours: 213.

Number of Respondents: 200.

Responses per Respondent: 2.

Annual Responses: 400.

Average Burden per Response: 31.95 minutes.

Frequency: As required.

Dated: June 8, 2021.
Aaron T. Siegel,
Alternate OSD Federal Register Liaison Officer, Department of Defense.

[FR Doc. 2021-12445 Filed 6-11-21; 8:45 am]

BILLING CODE 5001-06-P